SUSQUEHANNA RIVER BASIN COMMISSION

Notice of Public Hearing and Commission Meeting

AGENCY: Susquehanna River Basin Commission.

ACTION: Notice of public hearing and Commission meeting.

SUMMARY: The Susquehanna River Basin Commission will hold a public hearing as part of its regular business meeting on December 16, 2010, in Aberdeen, Md. At the public hearing, the Commission will consider: (1) Action on certain water resources projects; (2) compliance matters involving two projects; and (3) the rescission of a docket approval. Details concerning the matters to be addressed at the public hearing and business meeting are contained in the Supplementary Information section of this notice.

DATES: December 16, 2010, at 8:30 a.m.

ADDRESSES: Hilton Garden Inn Aberdeen, 1050 Beards Hill Road, Aberdeen, MD 21001.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) Presentations on Climate Change Initiatives to Protect the Chesapeake Bay; (2) hydrologic conditions in the basin; (3) FY-2012 funding of the Susquehanna Flood Forecast and Warning System; (4) ratification/approval of grants/contracts; (5) a Record Retention and Destruction Policy; (6) the FY-2010 Audit Report; (7) a proposed FY-2011 Capital Budget; (8) acquisition of new headquarters facilities; (9) a recommendation for new independent auditors; and (10) amendment of Commission By-Laws. The Commission will also hear Legal Counsel's report.

Public Hearing—Compliance Matters

1. Project Sponsor: Chesapeake Appalachia, LLC. Withdrawal ID: Susquehanna River—Hicks (Docket No. 20091201), Great Bend Township, Susquehanna County, Pa.

2. Project Sponsor: J-W Operating Company. Pad ID: Pardee & Curtin Lumber Co. C-12H, Shippen Township, Cameron County, Pa.

Public Hearing—Projects Scheduled for Action

1. Project Sponsor and Facility: Anadarko E&P Company LP (Pine Creek—3), Watson Township, Lycoming County, Pa. Application for surface water withdrawal of up to 0.720 mgd.

2. Project Sponsor: Aqua Pennsylvania, Inc. Project Facility: Monroe Manor Water System, Monroe Township, Snyder County, Pa. Application for groundwater withdrawal of up to 0.415 mgd from Well 6.

3. Project Sponsor and Facility: East Resources Management, LLC (Cowanesque River), Westfield Township, Tioga County, Pa. Application for surface water withdrawal of up to 0.375 mgd.

4. Project Sponsor and Facility: EXCO Resources (PA), LLC (West Branch Susquehanna River), Curwensville Borough, Clearfield County, Pa. Application for surface water withdrawal of up to 2.000 mgd.

5. Project Sponsor: Hughesville-Wolf Township Joint Municipal Authority. Project Facility: Wastewater Treatment Plant, Wolf Township, Lycoming County, Pa. Application for withdrawal of treated wastewater effluent of up to 0.249 mgd.

6. Project Sponsor and Facility: Leonard & Jean Marie Azaravich (Meshoppen Creek), Springville Township, Susquehanna County, Pa. Application for surface water withdrawal of up to 0.249 mgd.

7. Project Sponsor and Facility: LHP Management, LLC (Fishing Creek—Clinton Country Club), Bald Eagle Township, Clinton County, Pa. Modification to increase surface water withdrawal up to 0.999 mgd (Docket No. 20090906).

8. Project Sponsor and Facility: Linde Corporation (Lackawanna River), Fell Township, Lackawanna County, Pa. Application for surface water withdrawal of up to 0.905 mgd.

9. Project Sponsor and Facility: Peoples Financial Services Corp. (Tunkhannock Creek), Tunkhannock Township, Wyoming County, Pa. Application for surface water withdrawal of up to 0.990 mgd.

10. Project Sponsor and Facility: Ultra Resources, Inc. (Pine Creek), Pike Township, Potter County, Pa. Modification to increase surface water withdrawal up to 1.170 mgd (Docket No. 20090332).

Public Hearing—Projects Scheduled for Rescission Action

1. Project Sponsor and Facility: Anadarko E&P Company LP (Pine Creek) (Docket No. 20090304), Cummings Township, Lycoming County, Pa.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to December 10, 2010, to be considered.

Authority: Pub. L. 91-575, 84 Stat. 1509 et seq., 18 CFR Parts 806, 807, and 808.

Dated: November 15, 2010.
Paul O. Swartz,
Executive Director.

[FR Doc. 2010-29755 Filed 11-24-10; 8:45 am]

BILLING CODE 7040-01-P